DEPARTMENT OF LABOR

Employment and Training Administration

[TA-W-39,162]

ME International, Inc., Now Known as ME Global, Duluth, Minnesota; Amended Notice of Revised Determination on Remand

In accordance with Section 223 of the Trade Act of 1974 (19 U.S.C. 2273) the Department of Labor issued a Notice of Revised Determination on Remand on June 25, 2003, applicable to workers of the ME International, Inc., Duluth, Minnesota. The notice was published in the Federal Register on July 10, 2003 (68 FR 41178-41179).

At the request of the State agency, the Department reviewed the revised determination for workers of the subject firm. The workers are engaged in the production of metal linings for grinding mills.

New information shows that ME International was purchased by Elecmetal in November 2001 and is now known as ME Global. Workers separated from employment as the subject firm had their wages reported under a separated unemployment insurance (UI) tax account for ME Global.

Accordingly, the Department is amending this certification to properly reflect this matter.

The intent of the Department's certification is to include all workers of ME International, Duluth, Minnesota who were adversely affected by increased imports.

The amended notice applicable to TA-W-39,162 is hereby issued as follows:

“All workers of ME International, Inc., now known as ME Global, Duluth, Minnesota, who became totally or partially separated from employment on or after April 9, 2000, through June 25, 2005, are eligible to apply for adjustment assistance under Section 223 of the Trade Act of 1974.

Signed at Washington, DC, this 16th day of December 2003.
Elliott S. Kushner,
Certifying Officer, Division of Trade Adjustment Assistance.

[FR Doc. 04-299 Filed 1-6-04; 8:45 am]

BILLING CODE 4510-30-P